DEPARTMENT OF ENERGY

Federal Energy Regulatory Commission

[Docket No. EL15-46-000]

Champion Energy Marketing LLC v. PJM Interconnection, L.L.C., PJM Settlement, Inc.; Notice of Complaint

Take notice that on February 13, 2015 pursuant to section 206 of the Federal Energy Regulatory Commission's (Commission) Rules of Practice and Procedure, 18 CFR 385.206 and section 206 of the Federal Power Act, 16 U.S.C. 824(e), Champion Energy Marketing LLC (Complainants or Champion) filed a formal complaint against PJM Interconnection, LLC. and PJM Settlement, Inc. (Respondents or PJM) alleging that PJM's Tariff provisions that allowed for uplift charges to be incurred and then allocated to Champion are flawed, and perpetuate fleet-wide resource performance problems, which as a result fail to ensure reliability in a cost-effective manner, rendering the Tariff unjust and unreasonable, as more fully explained in the complaint.

Champion certifies that copies of the complaint were served on the contacts for PJM as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 5, 2015.

Dated: February 19, 2015.
Kimberly D. Bose,
Secretary.

[FR Doc. 2015-04002 Filed 2-25-15; 8:45 am]

BILLING CODE 6717-01-P